DEPARTMENT OF THE INTERIOR

Bureau of Land Management

[LLNMP0000 L13110000.XH0000]

Notice of Public Meeting, Pecos District Resource Advisory Council Meeting, New Mexico

AGENCY: Bureau of Land Management, Interior.

ACTION: Notice of public meeting.

SUMMARY: In accordance with the Federal Land Policy and Management Act and the Federal Advisory Committee Act of 1972, the U.S. Department of the Interior, Bureau of Land Management (BLM), Pecos District Resource Advisory Council (RAC), will meet as indicated below.

DATES: The meeting will be held on January 18, 2012, from 10 a.m.-4:30 p.m. and January 19, 2012, from 8 a.m.-3 p.m.

ADDRESSES: The meetings will be at the Bureau of Land Management Carlsbad Field Office, 620 E. Greene, Carlsbad, NM, on January 18, with a tour for RAC members of a potash mine on January 19, 2012. The public may send written comments to the RAC, 2909 W. 2nd Street, Roswell, NM 88201.

FOR FURTHER INFORMATION CONTACT: Betty Hicks, Pecos District, Bureau of Land Management, 2909 W. 2nd Street, Roswell, NM 88201, (575) 627-0242. Persons who use a telecommunications device for the deaf (TDD) may call the Federal Information Relay Service (FIRS) at 1-(800) 877-8229 to contact the above individual during normal business hours. The FIRS is available 24 hours a day, 7 days a week, to leave a message or question with the above individual. You will receive a reply during normal business hours.

SUPPLEMENTARY INFORMATION: The 10-member RAC advises the Secretary of the Interior, through the Bureau of Land Management, on a variety of planning and management issues associated with public land management in New Mexico. Planned agenda items include: Update on the Carlsbad Resource Management Plan, Potash mining and solution mining, election of officers, and information about the Permian Memorandum of Agreement for cultural resources.

A half-hour public comment period during which the public may address the Council is scheduled to begin at 3:30 p.m. on January 18. All RAC meetings are open to the public. Depending on the number of individuals wishing to comment and time available, the time for individual oral comments may be limited.

Douglas J. Burger,
District Manager.

[FR Doc. 2011-30230 Filed 11-22-11; 8:45 am]

BILLING CODE 4310-VA-P